FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 000831F

Name: A. Burghart Shipping Co., Inc.

Address: 52 Fadem Road, Box 790, Springfield, NJ 07081.

Date Revoked: June 12, 2005.

Reason: Failed to maintain a valid bond.

License Number: 018008N

Name: ACX Logistics,Inc.

Address: 8723 Bellanca Avenue, Unit B, Los Angeles, CA 90045.

Date Revoked: July 1, 2005.

Reason: Surrendered license voluntarily.

License Number: 003294F

Name: Air Marine Transport, Inc.

Address: 978 Shoreline Drive, San Mateo, CA 94404.

Date Revoked: June 22, 2005.

Reason: Failed to maintain a valid bond.

License Number: 017680N

Name: American Vantec, Inc.

Address: 16400 S. Avalon Blvd., Gardena, CA 90248.

Date Revoked: July 1, 2005.

Reason: Failed to maintain a valid bond.

License Number: 007699N

Name: Caribbean American Freight, Inc.

Address: 9393 NW 13th Street, Miami, FL 33122.

Date Revoked: June 15, 2005.

Reason: Failed to maintain a valid bond.

License Number: 018304F

Name: Comis Int'l Inc.

Address: 690 Knox Street, Suite 220, Torrance, CA 90502.

Date Revoked: June 20, 2005.

Reason: Failed to maintain a valid bond.

License Number: 002350F

Name: Eastern International Forwarders, Inc.

Address: 10170 S.W. 102nd Avenue, Miami, FL 33176.

Date Revoked: August 14, 2005.

Reason: Surrendered license voluntarily.

License Number: 001278F

Name: Interproject Shipping Services, Inc.

Address: 10 Exchange Place, 19th Floor, Jersey City, NJ 07302.

Date Revoked: June 30, 2005.

Reason: Failed to maintain a valid bond.

License Number: 002249NF

Name: Keihin America Corporation dba Keihin Ocean Line

Address: 1447 W 178th Street, Suite 300, Gardena, CA 90248.

Date Revoked: June 24, 2005.

Reason: Failed to maintain valid bonds.

License Number: 016600N

Name: Optimodal, Inc.

Address: 119 North High Street, West Chester, PA 19380.

Date Revoked: June 30, 2005.

Reason: Failed to maintain a valid bond.

License Number: 017170F

Name: Pavao Sosic dba C.O. Logistic

Address: 3711 Country Club Drive, Suite 6, Long Beach, CA 90807.

Date Revoked: June 17, 2005.

Reason: Failed to maintain a valid bond.

License Number: 019075N

Name: Shiplane Transport, Inc.

Address: 2620 N. Oak Park Avenue, Chicago, IL 60707.

Date Revoked: June 24, 2005.

Reason: Failed to maintain a valid bond.

License Number: 017236N

Name: Simpson's Shipping Enterprise

Address: 248 West Lincoln Avenue, Mt. Vernon, NY 10550.

Date Revoked: June 20, 2005.

Reason: Failed to maintain a valid bond.

License Number: 003186NF

Name: World Trade Transport of Virginia dba GPS Logistics

Address: c/o GPS Logistics, 20 Central Street, Suite 108, Salem, MA 01970.

Date Revoked: June 30, 2005.

Reason: Surrendered license voluntarily.

Sandra L. Kusumoto,
Director, Bureau of Certification and Licensing.

[FR Doc. 05-14291 Filed 7-19-05; 8:45 am]

BILLING CODE 6730-01-P